DEPARTMENT OF COMMERCE

International Trade Administration

President's Advisory Council on Doing Business in Africa

AGENCY: U.S. Department of Commerce, International Trade Administration.

ACTION: Notice of an Open Meeting of the President's Advisory Council on Doing Business in Africa (PAC-DBIA or Council).

SUMMARY: The President's Advisory Council on Doing Business in Africa will hold the first meeting of its 2022-2024 term to deliberate and adopt recommendations on actions the U.S. Government can take to strengthen U.S. commercial relationships in Africa. The PAC-DBIA will present recommendations focused on financing and infrastructure, digital and information and communications technology, healthcare, enery and environment, and agribusiness and food/water security. The final agenda for the meeting will be posted prior to the meeting on the Council's website at http://trade.gov/pac-dbia.

DATES: April 13, 2023, time to be determined.

ADDRESSES: The President's Advisory Council on Doing Business in Africa meeting will be broadcast via live webcast on the internet at http://whitehouse.gov/live.

FOR FURTHER INFORMATION CONTACT: Giancarlo Cavallo, Designated Federal Officer, President's Advisory Council on Doing Business in Africa, Department of Commerce, 1401 Constitution Ave. NW, Room 22004, Washington, DC 20230, telephone: 202-766-8044; 202-250-9798, email: dbia@trade.gov,Giancarlo.Cavallo@trade.gov.

SUPPLEMENTARY INFORMATION:

Background: The PAC-DBIA was established on November 4, 2014, to advise the President, through the Secretary of Commerce, on strengthening commercial engagement between the United States and Africa. The Council's charter was renewed for a fourth two-year term in December 2021. The Council was established in accordance with the provisions of the Federal Advisory Committee Act, as amended, 5 U.S.C. App.

Public Submissions: The public is invited to submit written statements to the Council by 5 p.m. April 6, 2023, by either of the following methods:

a. Electronic Submissions

Submit statements electronically to Giancarlo Cavallo, Designated Federal Officer, President's Advisory Council on Doing Business in Africa, via email: dbia@trade.gov.

b. Paper Submissions

Send paper statements to Giancarlo Cavallo, Designated Federal Officer, President's Advisory Council on Doing Business in Africa, Department of Commerce, 1401 Constitution Ave. NW, Room 22004, Washington, DC, 20230.

Statements will be provided to PAC-DBIA members in advance of the meeting for consideration and may be posted on the Council website (http://trade.gov/pac-dbia). Any business proprietary information should be clearly designated as such. All statements received, including attachments and other supporting materials, are part of the public record and subject to public disclosure.

Meeting minutes: Copies of the Council's meeting minutes will be available within ninety (90) days of the meeting on the Council's website at http://trade.gov/pac-dbia.

Frederique Stewart,
Director, Office of Africa.

[FR Doc. 2023-06449 Filed 3-28-23; 8:45 am]

BILLING CODE 3510-DR-P